DEPARTMENT OF ENERGY

Federal Energy Regulatory Commission

[Docket No. EL09-51-000]

Boralex Ashland LP Complainant, v. ISO New England Inc. Respondent; Notice of Complaint

May 11, 2009.

Take notice that on May 5, 2009, Boralex Ashland LP (Boralex Ashland) filed a complaint against ISO New England Inc. (ISO-NE) pursuant to section 206 of the Federal Power Act. Boralex Ashland alleges that ISO-NE failed to ensure that Boralex Ashland is afforded transmission priority for capacity imports over the New Brunswick interface pursuant to the terms of a grandfathered transmission service agreement between Boralex Ashland and Maine Electric Power Company, Inc., (MEPCO).

Boralex Ashland certifies that copies of the complaint were served on ISO-NE, MEPCO and affected state public utility commissions.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the eFiling link at http://www.ferc.gov. Persons unable to file electronically should submit an original and 14 copies of the protest or intervention to the Federal Energy Regulatory Commission, 888 First Street, NE., Washington, DC 20426.

This filing is accessible on-line at http://www.ferc.gov, using the eLibrary link and is available for review in the Commission's Public Reference Room in Washington, DC. There is an eSubscription link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on May 26, 2009.

Kimberly D. Bose,
Secretary.

[FR Doc. E9-11462 Filed 5-15-09; 8:45 am]

BILLING CODE 6717-01-P